FEDERAL ELECTION COMMISSION

Sunshine Act Meetings

AGENCY: Federal Election Commission

DATE AND TIME: Thursday, December 17, 2015 at 10:00 a.m.

PLACE: 999 E Street NW., Washington, DC (ninth floor)

STATUS: This meeting will be open to the public.

ITEMS TO BE DISCUSSED:

Correction and Approval of Minutes for October 29, 2015

Remarks by Chair Ravel

Draft Advisory Opinion 2015-13: Senator Harry Reid

Draft Advisory Opinion 2015-14: Hillary for America

Rulemaking Petition: Independent Spending by Corporations, Labor Organizations, Foreign Nationals, and Certain Political Committees (Citizens United)

Rulemaking Priorities and Proposals: Regulatory Relief for Political Parties; REG 2014-10 Outline of Draft NPRM Implementing Party Segregated Accounts; REG 2013-01 Draft Notice of Proposed Rulemaking on Technical Modernization; Coordination Rulemaking Proposal

Commission Documents/Public Disclosure Policies

Notice of Proposed Rulemaking on Reporting Multistate Independent Expenditures and Electioneering Communications in Presidential Primary Elections

Legislative Recommendations

2016 Meeting Dates

Election of Officers

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2015-31544 Filed 12-10-15; 4:15 pm]

BILLING CODE 6715-01-P